DEPARTMENT OF THE INTERIOR

Geological Survey

[GX15EE000101100]

Announcement of National Geospatial Advisory Committee Meeting

AGENCY: U.S. Geological Survey, Interior.

ACTION: Notice of meeting.

SUMMARY: The National Geospatial Advisory Committee (NGAC) will meet on September 1-2, 2015 at the National Conservation Training Center, 698 Conservation Way, Shepherdstown, WV 25443. The meeting will be held in Room #201 Instructional East. The NGAC, which is composed of representatives from governmental, private sector, non-profit, and academic organizations, was established to advise the Federal Geographic Data Committee on management of Federal geospatial programs, the development of the National Spatial Data Infrastructure, and the implementation of Office of Management and Budget (OMB) Circular A-16. Topics to be addressed at the meeting include:

— Leadership Dialogue

— FGDC Report/Geospatial Platform Update

— Open Water Data Initiative

— 3D Elevation Program

— Crowdsourced Geospatial Data

— Outreach and Communications

— Geospatial Privacy

— Landsat

The meeting will include an opportunity for public comment during the morning of September 2. Comments may also be submitted to the NGAC in writing. Members of the public who wish to attend the meeting must register in advance for clearance into the meeting site. Please register by contacting Lucia Foulkes at the Federal Geographic Data Committee (703-648-4142, lfoulkes@usgs.gov). Registrations are due by August 28. While the meeting will be open to the public, registration is required for entrance to the facility, and seating may be limited due to room capacity.

DATES: The meeting will be held on September 1 from 8:30 a.m. to 5:00 p.m. and on September 2 from 8:30 a.m. to 4:00 p.m.

FOR FURTHER INFORMATION CONTACT: John Mahoney, U.S. Geological Survey (206-220-4621).

SUPPLEMENTARY INFORMATION: Meetings of the National Geospatial Advisory Committee are open to the public. Additional information about the NGAC and the meeting are available at www.fgdc.gov/ngac.

Kenneth Shaffer,
Deputy Executive Director, Federal Geographic Data Committee.

[FR Doc. 2015-19817 Filed 8-11-15; 8:45 am]

BILLING CODE 4311-AM-P